DEPARTMENT OF JUSTICE

[OMB Number 1121-0314]

Agency Information Collection Activities: Proposed Collection; Comments Requested; Resinstatment of a Previously Approved Collection: Firearm Inquiry Statistics (FIST) Program

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until March 16, 2021. If you have additional comments especially on the estimated public burden or associated response time, suggestions, or need a copy of the proposed information collection instrument with instructions or additional information, please contact Connor Brooks, Statistician, Law Enforcement Statistics Unit, Bureau of Justice Statistics, 810 Seventh Street NW, Washington, DC 20531 (email: Connor.Brooks@usdoj.gov; phone: 202-514-8633).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: Reinstatement of the Firearm Inquiry Statistics Program.

(2) The Title of the Form/Collection: 2019-2021 Firearm Inquiry Statistics Program.

(3) The agency form number, if any, and the applicable component of the Department sponsoring the collection: The form number is FIST-1. The applicable component within the Department of Justice is the Bureau of Justice Statistics, Office of Justice Programs.

(4) Affected public who will be asked or required to respond, as well as a brief abstract: Through the Firearm Inquiry Statistics (FIST) Program, the Bureau of Justice Statistics (BJS) obtains information from state and local checking agencies responsible for maintaining records on the number of background checks for firearm transfers or permits that were issued, processed, tracked, or conducted during the calendar year. Specifically, state and local checking agencies are asked to provide information on the number of applications and denials for firearm transfers received or tracked by the agency and reasons why applications were denied. BJS combines these data with the Federal Bureau of Investigation's (FBI) National Instant Criminal Background Check System (NICS) transaction data to produce comprehensive national statistics on firearm applications and denials resulting from the Brady Handgun Violence Prevention Act of 1993 and similar state laws governing background checks and firearm transfers. BJS also plans to collect information from the Bureau of Alcohol, Tobacco, Firearms, and Explosives (ATF) on denials screened and referred to ATF field offices for investigation and possible prosecution. BJS publishes FIST data on the BJS website in statistical tables and uses the information to respond to inquiries from Congress, federal, state, and local government officials, researchers, students, the media, and other members of the general public interested in criminal justice statistics.

(5) An estimate of the total number of respondents and the amount of time estimated for an average respondent to respond: A projected 1,091 respondents will take part in the FIST data collection with an average of 25 minutes for each to complete the FIST survey form.

(6) An estimate of the total public burden (in hours) associated with the collection: The estimated public burden hours associated with this collection is 455 hours annually.

If additional information is required contact: Melody Braswell, Department Clearance Officer, United States Department of Justice, Justice Management Division, Policy and Planning Staff, Two Constitution Square, 145 N Street NE, 3E.405A, Washington, DC 20530.

Dated: January 12, 2021.
Melody Braswell,
Department Clearance Officer for PRA, U.S. Department of Justice.

[FR Doc. 2021-00929 Filed 1-14-21; 8:45 am]

BILLING CODE 4410-18-P